FEDERAL MARITIME COMMISSION

Ocean Transportation Intermediary License Reissuances

The Commission gives notice that the following Ocean Transportation Intermediary licenses have been reissued pursuant to section 19 of the Shipping Act of 1984 (46 U.S.C. 40101).

License No.: 023599F.

Name: Ashimiyu Alowonle dba Classique Companies.

Address: 4355 Irving Avenue North, Minneapolis, MN 55412.

Date Reissued: May 21, 2014.

License No.: 024332N.

Name: JT Freight Solutions.

Address: 1255 Corporate Center Drive, Suite 218, Monterey Park, CA 91754.

Date Reissued: June 6, 2014.

Sandra L. Kusumoto,
Director, Bureau of Certification and Licensing.

[FR Doc. 2014-15368 Filed 6-30-14; 8:45 am]

BILLING CODE 6730-01-P